DEPARTMENT OF COMMERCE

Bureau of the Census

[Docket Number 160831809-6809-01]

Temporary Suspension of the Special Census Program

AGENCY: Bureau of the Census, Department of Commerce.

ACTION: Notice of Temporary Suspension of the Special Census Program.

SUMMARY: This document serves as notice to state and local governments and to other federal agencies that, beginning on September 30, 2018, the Bureau of the Census (Census Bureau) will temporarily suspend the Special Census Program for five years—the two years preceding the decennial census, the decennial census year and the two years following it to accommodate the taking of the 2020 Decennial Census.

The Census Bureau will announce, in a future Federal Register notice, the date that the program resumes. The Census Bureau plans to resume the program in the year 2022, after the 2020 Census data becomes available, for those entities that desire the service, provided that any and all costs associated with this work are borne by the local governmental entity.

DATES: As of September 30, 2018, the Special Census Program will be temporarily suspended. Governmental units wishing to conduct a special census prior to the temporary suspension must submit the necessary Cost Estimate Package by June 15, 2017. An approved Memorandum of Agreement (MOA), along with the required funding, must be received no later than September 30, 2017 to complete the jurisdiction's Special Census by September 30, 2018.

FOR FURTHER INFORMATION CONTACT: Mr. Hector Merced, Field Division, U.S. Census Bureau, Washington, DC 20233, by telephone at (301) 763-1429 or email at fld.special.census@census.gov.

SUPPLEMENTARY INFORMATION: A Special Census is a basic enumeration of population, housing units, group quarters and transitory locations, conducted by the Census Bureau at the request of a governmental unit. They are conducted on a cost-reimbursable basis. The Census Bureau's authority to conduct Special Censuses is specified in Title 13, United States Code (U.S.C.), Section 196. For Special Census purposes, a governmental unit is defined as the government of any state, county, city, or other political subdivision within a state, or the government of the District of Columbia or the government of any possession or area including political subdivisions, American Indian Reservations or Alaskan Native villages.

A Special Census may be conducted on any subject covered by the censuses as provided for in Title 13, U.S.C. Special Censuses are conducted on a cost reimbursable basis. The cost of a Special Census varies depending on the governmental unit's housing and population counts and whether a government requests a full or partial Special Census. To begin the Special Census process, a governmental unit must request an official cost estimate. There is a $200 fee to request an estimate. The cost estimate outlines the anticipated costs to the sponsoring government for staffing, materials, data processing and tabulation. Included with the cost estimate is a MOA. Once a signed MOA and initial payment are transmitted to the Census Bureau, the Special Census process will begin. When data collection, processing, and tabulation have been completed, the governmental unit receives official census statistics on the population and housing unit counts for the entire jurisdiction or parts of the jurisdiction, as defined in the MOA at the beginning of the Special Census process. This typically occurs within seven (7) months after the MOA is signed and returned to the Census Bureau by the requesting government. The official census statistics are communicated to the jurisdiction through a signed letter from the Director of the Census Bureau. The official census statistics can be used by the jurisdiction for any purpose provided through law, as specified in Title 13, U.S.C., Section 196.

Local officials frequently request a Special Census when there has been a significant population change in their community due to annexation, growth, or the addition of new group quarters facilities. Communities may also consider a Special Census if there was a significant number of vacant housing units during the previous Decennial Census that are now occupied.

Governmental units wishing to conduct a special census prior to the temporary suspension must submit the necessary Cost Estimate Package by June 15, 2017. An approved MOA, along with the required funding, must be received no later than September 30, 2017 to complete the jurisdiction's Special Census by September 30, 2018. Additional information about the Special Census Program is located at the following Web site address: www.census.gov/programs-surveys/specialcensus.html.

Dated: September 14, 2016.
John H. Thompson,
Director, Bureau of the Census.

[FR Doc. 2016-22629 Filed 9-19-16; 8:45 am]

BILLING CODE 3510-07-P